DEPARTMENT OF ENERGY

Federal Energy Regulatory Commission

[Docket No. RP00-300-003]

Tennessee Gas Pipeline Company; Notice of Compliance Filing

July 28, 2000.

Take notice that on July 24, 2000, Tennessee Gas Pipeline Company (Tennessee), tendered for filing as part of its FERC Gas Tariff, Fifth Revised Volume No. 1, the following tariff sheets, with an effective date of June 23, 2000.

Seventh Revised Sheet No. 405

Substitute Original Sheet No. 405A.01

Substitute Tenth Revised Sheet No. 405C

Substitute Original Sheet No. 405E

Tennessee states that the filing is being made in compliance with the Commission's Order issued June 23, 2000 in Docket No. RP00-300, 91 FERC ¶ 61,292 (2000).

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-19599 Filed 8-2-00; 8:45 am]

BILLING CODE 6717-01-M